DEPARTMENT OF ENERGY

Federal Energy Regulatory Commission

[Project No. 553-235]

Seattle City Light; Notice of Designation of Certain Commission Personnel as Non-Decisional

Commission staff members Haley McLoud (Office of the General Counsel; 202-502-8807; haley.mcloud@ferc.gov) and Paige Espy (Office of the General Counsel; 202-502-6698; paige.espy@ferc.gov) are assigned to assist with settlement negotiations for the Skagit River Hydroelectric Project No. 553.

As non-decisional staff, Ms. McLoud and Ms. Espy will not participate in an advisory capacity in the Commission's review of any offer of settlement or settlement agreement, or deliberations concerning the disposition of the relicense application.

Different Commission advisory staff will be assigned to review any offer of settlement or settlement agreement, and to process the relicense application, including providing advice to the Commission with respect to the agreement and the application. Non-decisional staff and advisory staff are prohibited from communicating with one another concerning the settlement and the relicense application.

Dated: April 25, 2024.
Debbie-Anne A. Reese,
Acting Secretary.

[FR Doc. 2024-09440 Filed 4-30-24; 8:45 am]

BILLING CODE 6717-01-P